ENVIRONMENTAL PROTECTION AGENCY

[OECA-2004-0041; FRL-7914-7]

Agency Information Collection Activities; Submission for OMB Review and Approval; Comment Request; NESHAP for Engine Test Cells/Stands (Renewal), ICR Number 2066.03, OMB Control Number 2060-0483

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on July 31, 2005. Under OMB regulations, the Agency may continue to conduct or sponsor the collection of information while this submission is pending at OMB. This ICR describes the nature of the information collection and its estimated burden and cost.

DATES: Additional comments may be submitted on or before June 20, 2005.

ADDRESSES: Submit your comments, referencing docket ID number OECA-2004-0041, to (1) EPA online using EDOCKET (our preferred method), by e-mail to docket.oeca@epa.gov, or by mail to: EPA Docket Center, Environmental Protection Agency, Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Learia Williams, Compliance Assessment and Media Programs Division, Office of Compliance, Mail Code 2223A, Environmental Protection Agency, 1200 Pennsylvania Avenue, NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On December 1, 2004 (69 FR 69909), EPA sought comments on this ICR pursuant to 5 CFR 1320.8(d). EPA received no comments.

EPA has established a public docket for this ICR under Docket ID No. OECA-2004-0041, which is available for public viewing at the Enforcement and Compliance Docket and Information Center in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Enforcement and Compliance Docket and Information Center Docket is: (202) 566-1752. An electronic version of the public docket is available through EPA Dockets (EDOCKET) at http://www.epa.gov/edocket. Use EDOCKET to submit or view public comments, access the index listing of the contents of the public docket, or access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NESHAP for Engine Test Cells/Stands (Renewal).

Abstract: The National Emission Standards for Hazardous Air Pollutants (NESHAP), for Engine Test Cells/Stands were proposed on May 14, 2002 (67 FR 34547), and promulgated on May 27, 2003 (68 FR 28785). These standards apply to any existing, reconstructed, or new affected sources. An affected source is the collection of all equipment and activities associated with engine test cells/stands used for testing uninstalled stationary or uninstalled mobile engines. Respondents of affected sources are subject to the requirements of 40 CFR part 63, subpart A, the General Provisions, unless the regulation specifies otherwise.

Owners and operators must submit an initial notification reports upon the construction, or reconstruction of any engine test cells/stands used for testing internal combustion engines. The respondents are required to submit a semiannual compliance report. If there were no deviations from the emission limitation and the continuous emission monitoring system (CEMS) was operating correctly, the semiannual report must contain a statement that no deviation occurred. If a deviation occurred from an emission limit, the report must contain detailed information of the nature of the deviation(s). Performance test reports are the Agency's records of a source's initial capability to comply with the emission standards, and serve as a record of the operating conditions under which compliance was achieved. The information generated by monitoring, recordkeeping and reporting requirements described in this ICR is used by the Agency to ensure that facilities affected by the standard continue to operate the control equipment and achieve continuous compliance with the regulation. In the event that there is no delegated state or local authority, the reports are sent directly to the EPA Regional Office.

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information are estimated to average 76 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners or operators of engine test cells/stands.

Estimated Number of Respondents: 18.

Frequency of Response: Initially, semiannually, and annually.

Estimated Total Annual Hour Burden: 3,043 hours.

Estimated Total Annual Costs: $248,264, which includes $0 annualized Capital/Startup costs, $5,400 annual O&M costs, and $242,864 Respondent Labor costs.

Changes in the Estimates: There is an increase of 203 hours in the total estimated burden currently identified in the OMB Inventory of Approved ICR Burdens. The rule requires that all sources will conduct a performance evaluation and monitoring demonstration once every five years. Because of this ruling, the first six sources in the active ICR will be required to conduct this test on the third year of this renewal. Since the annualized burden for initial evaluation and demonstration is computed by averaging over the 3 year period of the ICR, we have also averaged the additional six update sources to reflect two additional sources per year for the 5-year update.

Dated: May 5, 2005.
Oscar Morales,
Director, Collection Strategies Division.

[FR Doc. 05-10012 Filed 5-18-05; 8:45 am]

BILLING CODE 6560-50-P